DEPARTMENT OF THE INTERIOR

National Park Service

36 CFR Part 13

RIN 1024-AD38

National Park System Units in Alaska

AGENCY: National Park Service, Interior.

ACTION: Proposed rule.

SUMMARY: The National Park Service (NPS or Service) is proposing to revise the special regulations for the NPS-administered areas in Alaska to update provisions governing subsistence use of timber, seaweed collection, river management, ORV use, fishing and camping. The revision would also update definitions, prohibit using motorized vehicles to herd wildlife, and establish wildlife viewing distances in several park areas.

DATES: Comments must be received by February 26, 2007.

ADDRESSES: You may submit your comments, identified by Regulatory Information Number 1024-AD38 (RIN), by any of the following methods:

• Federal eRulemaking Portal: http://www.regulations.gov. Follow the instructions for submitting comments.

• E-mail NPS at: akro_regulations@nps.gov. Use RIN 1024-AD38 in the subject line.

• Mail: National Park Service, Regional Director, Alaska Regional Office, 240 West 5th Ave., Anchorage, AK 99501.

• Fax: (907) 644-3805.

All submissions received must include the agency name and RIN. For additional information see “Public Participation” under SUPPLEMENTARY INFORMATION below.

FOR FURTHER INFORMATION CONTACT: National Park Service, Victor Knox, Deputy Regional Director, Alaska Regional Office, 240 West 5th Ave., Anchorage, AK 99501. Telephone: (907) 644-3501. E-mail: akro_regulations@nps.gov. Fax: (907) 644-3816.

SUPPLEMENTARY INFORMATION:

Background

Each park area in Alaska has a compendium consisting of the compiled designations, closures, openings, permit requirements, and other provisions established by the Superintendent under the discretionary authority granted in 36 CFR 1.5 and elsewhere in regulations. It is the policy of the NPS to review these provisions on a regular basis for possible addition to the general and special park regulations in part 13. The group of provisions proposed here are additions or changes to individual park regulations in part 13, subparts H-W. Where these provisions have applicability to several or all Alaska park areas, they generally are proposed for addition to part 13, subparts A-F.

The following proposed regulations have resulted from the current review of compendium provisions. Additionally, several proposed changes to the part 13 regulations unrelated to the compendium review are included as indicated. We are consolidating all routine proposed changes in a single rulemaking document for administrative efficiency and to encourage broader participation in the rulemaking process. Each proposal is identified in the Section-by-Section Analysis that follows. As used within this document, the terms “we,” “our,” and “us” refer to the National Park Service.

Section-by-Section Analysis

Section 13.1 Definitions

The definition for the term “adequate and feasible access” is proposed for deletion. This term, which does not currently appear in part 13, is a remnant of the NPS regulations for access to inholdings which were deleted in 1986 and moved to the Department of Interior's regulations in Title 43. The NPS definition has been superseded by the similar definition now found at 43 CFR 36.10(a)(1). This proposed change is a non-substantive administrative correction without regulatory effect.

The definition of “National Preserve” is proposed for modification. The definition of National Preserve incorrectly identifies the “Alagnak Wild and Scenic River” instead of the Alagnak Wild River. See ANILCA § 605(b), 16 U.S.C. 1274(a)(25).

Section 13.440 Subsistence Permits for Persons Whose Primary, Permanent Home Is Outside a Resident zone

§ 13.440(b). We propose to remove this subsection because it no longer has any practical effect. It was originally adopted to provide a transitional authorization for subsistence uses without a permit during the initial application period for subsistence permits. This provision ceased to be applicable on August 1, 1981. Since that date, the authorization of subsistence uses by those living outside of resident zones has been by subsistence permit.

Section 13.485 Subsistence Use of Timber and Plant Material

§ 13.485(a), (a)(1) and (a)(2). We propose to revise these three paragraphs by deleting the word “live” in the term “live standing timber” with the intent of extending the applicability of these paragraphs to both live and dead standing timber. Due to the extensive amount of beetle killed standing timber in some park areas, the discretionary cutting of portions of this now dead standing timber is a useful resource management option and a benefit to subsistence users. Regulations at § 13.35(d) were revised in December of 2004 allowing park superintendents to authorize the harvest of dead standing timber. This proposed revision would allow subsistence users to harvest dead standing timber for firewood, house logs, and other subsistence uses.

§ 13.485(c)(1). We propose revising this paragraph to expand the allowable reasons for temporary closures to subsistence use of particular plant populations. The intent of this proposal is to provide broader management discretion in designating plant harvest areas with the expanded allowance for timber harvest in § 13.35 and the proposed rule in paragraph (a) above. The existing closure provisions for subsistence uses of plant materials, while closely patterned on the statutory provisions for temporary closures to subsistence use of fish and wildlife, are not similarly mandated by the law. Consequently, there is broader discretion for adjusting these provisions in accordance with traditional resource management guidelines and policies. This is especially appropriate in extreme circumstances such as those presented by the spruce bark beetle infestation now occurring in Alaska.

Section 13.550 Wildlife Distance Conditions, Alagnak Wild River

The park proposes to move a compendium rule to special regulations concerning wildlife distance conditions. This proposed regulation is similar to a regulation in Katmai National Park and Preserve, which was developed with input from the State of Alaska, commercial guides, conservation groups and others. This proposal also contains a provision restricting those fishing or engaging in photography from continuing that activity within 50 yards of a bear. While the regulation would allow a person to maintain a position while a bear transited the area or not to flee an approaching bear, continuing to fish within 50 yards of a bear presents an unacceptable opportunity for a bear to obtain fish from anglers. For photography, the proposal is needed to avoid unnatural behavior and displacement of less tolerant bears from a food source.

Section 13.602 Wildlife Distance Conditions, Aniakchak National Preserve

Like Katmai National Park and Preserve, Aniakchak proposes to move a current compendium rule to special regulation which would restrict fishing or engaging in photography from continuing that activity within 50 yards of a bear. While the regulation would allow a person to maintain a position while a bear transited the area or not to flee an approaching bear, continuing to fish within 50 yards of a bear presents an unacceptable opportunity for a bear to obtain fish from anglers. For photography, the proposal is needed to avoid unnatural behavior and displacement of less tolerant bears from a food source.

Section 13. 918 Sable Pass Wildlife Viewing Area, Denali National Park and Preserve

This section is a proposed re-adoption of the Sable Pass Wildlife Viewing Area, first established in 1956 as special park regulation 36 CFR 7.44(d) to protect wildlife viewing opportunities for all visitors who traveled the park road. This special regulation covered the area within one mile of the park road between miles 37 and 42. Realignment and extension of the park road has since caused road mileages to change slightly, and the mileages in the proposed regulation have been corrected accordingly. While entry into this area was prohibited, observation and photography of wildlife and other features from the road shoulders and designated turnouts were authorized. In 1983, this regulation was deleted without comment when the National Park Service revised parts 1-7 and 12 of the Code of Federal Regulations. Since then, the Sable Pass Closure has been seasonally implemented each year during the period of time when the park road is open, usually from May through September, using other regulatory authorities. The National Park Service believes it is important to provide one limited area along the park road where all visitors have an equal opportunity to view wildlife undisturbed in a natural setting. The majority of visitors along the park road ride on buses. These buses often turn around at Toklat or sooner, and do not traverse the other scenic high alpine passes, thus missing likely alpine bear viewing areas such as Highway Pass and Thorofare Pass. The National Park Service believes this closure should again be a special regulation. The NPS proposes to slightly modify the definition of the area from the original regulation to: (1) exclude the Tattler Creek drainage in order to allow hiking opportunities there; (2) extend from approximately mile 38.2 to 42.8 under the new road mileage system; and (3) follow easily recognizable geographic boundaries where possible.

Section 13.920 Wildlife Distance Conditions, Denali National Park and Preserve

This section is proposed to codify and simplify wildlife viewing conditions that have been in effect in the park for many years. The conditions are intended to mitigate the risks associated with humans in close proximity to wildlife while accommodating the large numbers of visitors to Denali. Interior Alaska bears live at relatively low population densities in Denali and are likely to react to human presence at considerably greater distances than coastal bears. Furthermore, the open habitat, including much of the open tundra along the Denali park road, means that wildlife species may be more sensitive to human presence than the same species would be in forested habitat.

Safe viewing and photography distances defined in Denali are greater than distances defined for other Alaska parks. Denali generally experiences visitor numbers, both on and off the main park road, that are significantly greater than other Alaska parks. High visitation provides more opportunities, over a broader area, for interaction between visitors and wildlife. Viewing in close proximity can alter wildlife behavior and cause hazardous circumstances for park visitors and wildlife. Chronic disruption of natural wildlife movements can also reduce or eliminate the viewing opportunities that attract visitors to Denali. The relatively high rate of wildlife encounters justifies more closely regulated management of visitors. In particular, the park is concerned about photographers who deliberately set up their equipment ahead of an advancing bear. To discourage this behavior, the rule would specifically prohibit photography within 300 yards of a bear. The minimum distance between people and wildlife protects both wildlife and visitors and maintains wildlife viewing opportunities.

Although visitation tends to be concentrated along the road corridor, visitor use in more remote areas is also high due to the relative ease for visitors to access the backcountry. Denali's unique accessibility to high numbers of backcountry visitors without the level of experience or preparation that normally precedes backcountry visits exacerbates the potential risks. The rule is, therefore, proposed to apply parkwide to provide clarity, consistency and to help protect visitors and resources throughout the park.

These wildlife viewing conditions do not apply to visitors engaged in lawful hunting or trapping activities, people who comply with a written protocol approved by the Superintendent, those who have a permit from the superintendent, or those who are otherwise directed by a park employee. Wildlife viewing distances are also not meant to apply to people inside or within 2 yards of a building entrance or cars, trucks or other highway vehicles. In addition to these regulations, any activity that disturbs the movements or behavior of wildlife is prohibited by 36 CFR 2.2(a)(2), which prohibits the feeding, touching, teasing, frightening or intentional disturbing of wildlife nesting, breeding or other activities.

Section 13.1008 Solid Waste Disposal, Gates of the Arctic National Park and Preserve

The NPS is proposing exceptions in certain circumstances to the solid waste disposal site requirements in four Alaska park areas, including Gates of the Arctic National Park and Preserve. The National Park Service believes that these provisions should be modified given the small communities residing inside park boundaries. Part 6 regulations require that solid waste disposal sites within park boundaries that were not in operation on September 1, 1984, handle waste “solely from National Park Service activities * * *.” This limitation has been problematic in the village of Anaktuvuk Pass. The NPS believes that the existing limitation may pose a threat to park resources. The village of Anaktuvuk Pass is not connected to the road system. Other than disposing of solid waste on private land within the boundaries of Gates of the Arctic National Park and Preserve, the only other option would entail flying out all solid waste, a cost prohibitive alternative. The statute, on which the current regulation is based, does not prohibit non-National Park Service waste. Accordingly, in order to enhance resource protection in the special circumstances affecting Gates of the Artic and three other Alaska park areas, the NPS is proposing to allow solid waste disposal sites to accept waste from activities other than National Park Service activities for waste generated within the boundaries of Gates of the Arctic National Park and Preserve.

The NPS is also proposing to eliminate a site restriction. Section 6.4(a)(9) requires that disposal sites be located more than one mile from a “visitor center, campground, ranger station, entrance station, or similar public use facility, or residential area.” Moving existing disposal sites to comply with the one mile requirement would result in unnecessary environmental impact as well as be cost prohibitive. Additionally, in certain areas other lands are literally not available or not environmentally suitable. Therefore, the NPS proposes to eliminate the one mile limit so long as it does not degrade natural or cultural resources of the park area.

For communities wholly within NPS boundaries, not being able to properly dispose of waste may result in unsafe disposal on park lands impairing park resources. The NPS believes that handling solid waste, under State of Alaska and the Environmental Protection Agency regulations, is preferable to each person disposing solid waste on private or leased lands within the park unit. Likewise, requiring that existing solid waste disposal sites be moved would result in unnecessary resource damage. It is also possible that the best location for sites may be within one mile of these facilities, as other lands may be unavailable or environmentally unsuitable. Other than the changes to allow handling non-National Park Service solid waste and to remove the one mile limit, so long as park resources would not be degraded, all other requirements of part 6 would remain in effect, providing protection to park resources while allowing a community on private land located inside the park to responsibly deal with solid waste sanitation.

Section 13.1106 Pets, Glacier Bay National Park and Preserve

The park proposes to move to special regulation the compendium rules regarding pets. The park believes that there are appropriate places for pets within the Bartlett Cove Developed Area, on vessels within the park and within the National Preserve. In these areas, pets must be leashed, crated, or otherwise physically restrained in accordance with 36 CFR 2.15(a)(2). In other areas, restrictions are placed on pets to protect wildlife, nesting areas, critical habitat and other values. Park wildlife is heavily dependent on the narrow strip of land between the bay and the mountains that quickly rise to present dramatic scenery. This narrow strip of land is also shared by campers and by visitors valuing the scenery and wildlife that it contains. In addition, the park has concerns about possible disease transmission from domestic to wild animals.

Section 13.1108 Alsek Corridor, Glacier Bay National Park and Preserve

The park proposes to promulgate as regulation several compendium entries related to the Alsek River, particularly as it relates to overnight use. This includes group size limits in the Alsek Corridor, consistent with the 1989 Alsek River Visitor Use Management Plan's management objectives. Campfires are currently prohibited by Servicewide regulations except in designated areas and under conditions set by the Superintendent. The park proposes to move the current designation allowing fires and a fire pan use condition to special regulation. This requirement helps protect the resource from intensive summer use at a limited number of campsites and provides for visitor enjoyment. Similarly, the repeated use of a small number of campsites created a human waste problem along the river. The park is proposing to move a compendium rule prohibiting disposal of human waste in the Alsek Corridor to special regulations. Standard camping practice on many heavily used rivers (including the Alsek since 1995 when the NPS constructed a rafter septic system at Dry Bay) involves the carry out of solid human waste.

Similarly, the park proposes to move to regulation current compendium rules requiring a permit within the Alsek Corridor above Gateway Knob to manage public use. This is in accordance with the 1989 Plan, which also provides for an average of one party per day initiating travel in Canada. The permit serves as a tool to provide safety-related information, limit parties and groups in accordance with Plan objectives and ensure visitors receive appropriate orientation information. The permit system, in place since 1994, is coordinated with Canadian agencies. The Plan was developed with public input and in coordination with Canadian land management agencies.

Section 13.1109 Off-Road Vehicle Use in Dry Bay, Glacier Bay National Park and Preserve

Glacier Bay is also proposing to designate trails for Off-Road Vehicle (ORV) use in Dry Bay. While ORV use is generally prohibited under current regulations, it is an authorized mode of transportation if it is directly incident to the exercise of commercial fishing rights or privileges obtained prior to December 2, 1980, in the Dry Bay area of the Preserve. Such use may be restricted if it poses a direct threat to park resources (36 CFR 13.21 (c) (1)). ORV's are the main mode of transportation in and around Dry Bay. Over the years, some ORV routes have relocated and new trails have been created, thus expanding the trail network beyond those in existence in 1979. Limiting ORV access to designated trails is necessary to prevent resource damage and protect the access of commercial fishermen. The NPS is proposing to authorize ORV use on certain designated trails and also limit all ORV use to those designated trails under 36 CFR 4.10(b).

Section 13.1118 Solid Waste Disposal, Glacier Bay National Park and Preserve

Finally, Glacier Bay, like Gates of the Arctic, is proposing exceptions in certain circumstances to the solid waste disposal site requirements. The National Park Service believes that these conditions should be modified given the small communities residing inside the park's boundary. Part 6 regulations require that solid waste disposal sites within park boundaries that were not in operation on September 1, 1984, handle waste “solely from National Park Service Activities * * *.” This limitation is problematic in Bartlett Cove and Dry Bay. The NPS believes that this limitation may pose a threat to park resources. For example, in Dry Bay within the boundaries of Glacier Bay National Park and Preserve, residents and business owners have very few options for storing or disposing of solid waste. The NPS is concerned that not allowing local residents and businesses the ability to have a solid waste disposal site closer to Dry Bay may result in garbage being dumped on park lands or other environmentally unsuitable disposal. Other than disposing of solid waste on private land within the boundaries of Glacier Bay National Park and Preserve, the only other option would entail flying or barging out all solid waste, a cost prohibitive alternative. The statute on which the current regulation is based does not prohibit non-National Park Service waste. Accordingly, in order to enhance resource protection in these special circumstances, the NPS is proposing to allow solid waste disposal sites to accept waste from activities other than National Park Service activities for waste generated within the boundaries of Glacier Bay National Park and Preserve.

The NPS is also proposing to eliminate a site restriction. Section 6.4(a)(9) requires that disposal sites be located more than one mile from a “visitor center, campground, ranger station, entrance station, or similar public use facility, or residential area.” There is a solid waste disposal site in Bartlett Cove within one mile of park headquarters, the visitor center, the campground, and other park facilities. Moving the existing disposal site to comply with the one mile requirement would result in unnecessary environmental impact and be cost prohibitive. Additionally, in certain areas other lands are literally not available or not environmentally suitable. The NPS proposes to eliminate the one mile limit so long as it does not degrade natural or cultural resources of the park area.

For communities wholly within NPS boundaries, not being able to properly dispose of waste may result in unsafe disposal on park lands impairing park resources. The NPS believes that handling solid waste, under State of Alaska and the Environmental Protection Agency regulations, is preferable to each person disposing solid waste on private or leased lands within the park unit. Likewise, requiring that existing solid waste disposal sites be moved would result in unnecessary resource damage. It is also possible that the best location for new sites may be within one mile of these facilities as other lands may be unavailable or environmentally unsuitable. Other than the changes to allow handling non-National Park Service solid waste and to remove the one mile limit so long as park resources would not be degraded, all other requirements of part 6 would remain in effect, providing protection to park resources while allowing communities on private land located inside the park to responsibly deal with solid waste sanitation.

Section 13.1206 Wildlife Distance Conditions, Katmai National Park and Preserve

The park proposes to move to special regulations a compendium restriction to the wildlife distance conditions. This proposal contains a provision restricting those fishing or engaging in photography from continuing that activity within 50 yards of a bear. While the regulation would allow a person to maintain a position while a bear transited the area or not to flee an approaching bear, continuing to fish within 50 yards of a bear presents an unacceptable opportunity for a bear to obtain fish from anglers. For photography, the proposal is needed to avoid unnatural behavior and displacement of less tolerant bears from a food source.

Section 13.1210 Firearms, Katmai National Park and Preserve

The park proposes to relax restrictions on the carrying of firearms in the former Katmai National Monument. The proposed modification would grant the Superintendent authority to designate areas and routes to allow hunters and residents of local communities to transit the area along the boundary of the former Katmai National Monument to access private inholdings or lands contiguous to the former Monument. For simplicity and ease of understanding, the proposed regulation applies to Katmai National Park rather than just the former Monument. Current regulations allow for the carrying, possession, and use of firearms in the ANILCA additions to Katmai. This regulation does not modify this allowance.

Section 13.1304 Exit Glacier Developed Area, Kenai Fjords National Park

Kenai Fjords National Park proposes to move to special regulations items currently in the compendium and in the Exit Glacier Area Plan. This includes a definition of the Exit Glacier area to clearly define the Exit Glacier Development Area (EGDA) for the proposed regulations. The proposed rule includes—

• Moving current compendium rules restricting food storage in the campground and camping consistent with bear management and the Exit Glacier Area Plan;

• Prohibiting the use of a bicycle in the EGDA, except on the road or parking areas, for visitor safety and the prevention of resource impacts on the heavily used pedestrian paths;

• Prohibiting snowmachines in part of the EGDA except on the Exit Glacier Road, parking areas, a marked route through the Exit Glacier campground to Exit Creek and within Exit Creek (which generally means the area between the banks and includes snow-covered gravel bars and the frozen surface of the creek) for safety reasons; and

• Relaxing the requirement for a permit for the commercial transport of passengers by motor vehicles in the EGDA, but allowing the Superintendent the discretion to establish a permit requirement to protect public health and safety, park resources, or provide for the equitable use of park facilities.

Section 13.1308 Harding Icefield, Kenai Fjords National Park

The park proposed to close the Harding Icefield Trail to bicycles and similar wheeled devices for public safety concerns and also close the area within 1/8 mile from the trail to camping.

Section 13.1310 Pets, Kenai Fjords National Park

In addition, the park proposes to move to special regulation compendium rules prohibiting pets along the coast from mean high tide to one quarter mile inland after May 30 and before November 1 and in the EGDA except in the parking lot, on the Exit Glacier road, or in other areas designated by the superintendent.

Section 13.1604 Solid Waste Disposal, Lake Clark National Park and Preserve

The NPS is also proposing exceptions in certain circumstances to the solid waste disposal site requirements in Lake Clark National Park and Preserve. The National Park Service believes that these conditions should be modified given the small community of Port Alsworth residing inside the park's boundaries. Part 6 regulations require that solid waste disposal sites within park boundaries that were not in operation on September 1, 1984, handle waste “solely from National Park Service Activities * * *.” This limitation has been problematic in Port Alsworth. The NPS believes that this limitation may pose a threat to park resources. The community of Port Alsworth is not connected to the road system. Other than disposing of solid waste on private land within the boundaries of Lake Clark National Park and Preserve, the only current option would entail flying out all solid waste, a cost prohibitive alternative. The statute on which the current regulation is based does not prohibit non-National Park Service waste. The NPS is concerned that not allowing local residents and businesses the ability to have a solid waste disposal site closer to the community may result in garbage being dumped on park lands or other environmentally unsuitable disposal. Accordingly, in order to enhance resource protection in these special circumstances, the NPS is therefore proposing to allow solid waste disposal sites to accept waste from activities other than National Park Service activities for waste generated within the boundaries of Lake Clark National Park and Preserve.

The NPS is also proposing to eliminate a site restriction. Section 6.4(a)(9) requires that disposal sites be located more than one mile from a “visitor center, campground, ranger station, entrance station, or similar public use facility, or residential area.” Lake Clark National Park and Preserve incinerates waste within one mile of park headquarters, residences, and other similar facilities. Moving this existing disposal site to comply with the one mile requirement would result in unnecessary environmental impact as well as be cost prohibitive. Additionally, in certain areas other lands are literally not available or not environmentally suitable. Therefore, the NPS proposes to eliminate the one mile limit so long as it does not degrade natural or cultural resources of the park area.

For communities wholly within NPS boundaries, not being able to properly dispose of waste may result in unsafe disposal on park lands impairing park resources. The NPS believes that handling solid waste, under State of Alaska and the Environmental Protection Agency regulations, is preferable to each person disposing solid waste on private or leased lands within the park unit. Likewise, requiring that existing solid waste disposal sites be moved would result in unnecessary resource damage. It is also possible that the best location for new sites may be within one mile of these facilities as other lands may be unavailable or environmentally unsuitable. The NPS believes that these two changes—(1) to allow handling non-National Park Service solid waste and (2) to remove the one mile limit so long as park resources would not be degraded—will provide protection to park resources while allowing communities on private land located inside the park to responsibly deal with solid waste sanitation.

Finally, Lake Clark National Park and Preserve is proposing an exemption to the permit requirement of §§ 6.4(b) and 6.9(a) for a transfer station on nonfederal lands within the park boundary when the Regional Director is able to determine that the operation of a transfer station would not degrade park natural or cultural resources. The NPS believes the temporary nature of transfer stations poses significantly fewer environmental concerns than permanent solid waste disposal sites and that the Regional Director's determination and other applicable State and federal laws will adequately protect park resources from undue impacts. The State of Alaska regulates transfer stations in the State, consistent with EPA requirements. The State of Alaska seeks to ensure transfer stations are appropriately located and managed in an environmentally responsible manner. Operators of other types of solid waste disposal sites within the boundaries of Lake Clark National Park and Preserve would still be required to obtain a permit under § 6.4(b). For transfer stations on private lands within park boundaries, the NPS believes that the Regional Director's determination and State and EPA regulations sufficiently protect park resources.

Section 13.1912 Solid Waste Disposal, Wrangell-St. Elias National Park and Preserve

The NPS is also proposing exceptions in certain circumstances to the solid waste disposal site requirements in Wrangell-St. Elias. The National Park Service believes that these conditions should be modified given the small communities residing inside the park's boundaries. Part 6 regulations require that solid waste disposal sites within park boundaries that were not in operation on September 1, 1984, handle waste “solely from National Park Service activities * * * .” This limitation has been problematic in McCarthy. The NPS believes that this limitation may pose a threat to park resources. For example, for the town of McCarthy within the boundaries of Wrangell-St. Elias National Park and Preserve, the closest solid waste disposal site (including transfer stations) is more than 140 miles away. Not including summer visitors, McCarthy has a seasonal population of approximately 100 and year round population of about 50. The NPS is concerned that not allowing local residents and businesses the ability to have a solid waste disposal site closer to the community may result in garbage being dumped on park lands or other environmentally unsuitable disposal. The statute on which the current regulation is based does not prohibit non-National Park Service waste. The NPS is therefore proposing to allow solid waste disposal sites to accept waste from activities other than National Park Service activities for waste generated within the boundaries of Wrangell-St. Elias.

The NPS is also proposing to eliminate a site restriction. Section 6.4(a)(9) requires that disposal sites be located more than one mile from a “visitor center, campground, ranger station, entrance station, or similar public use facility, or residential area.” In certain areas other lands are literally not available or not environmentally suitable. Therefore, the NPS proposes to eliminate the one mile limit so long as it does not degrade natural or cultural resources of the park area.

For communities wholly within NPS boundaries, not being able to properly dispose of waste may result in unsafe disposal on park lands impairing park resources. The NPS believes that handling solid waste, under State of Alaska and the Environmental Protection Agency regulations, is preferable to each person disposing solid waste on private lands within the park unit. Likewise, limiting the locations of solid waste disposal sites may result in unnecessary resource damage. It is possible that the best location for new sites may be within one mile of designated facilities, as other lands may be unavailable or environmentally unsuitable. The NPS believes that these two changes—(1) to allow handling non-National Park Service solid waste and (2) to remove the one mile limit so long as park resources would not be degraded—will provide protection to park resources while allowing communities on private land located inside the park to responsibly deal with solid waste sanitation.

Finally, Wrangell-St. Elias National Park and Preserve is proposing an exemption to the permit requirement of §§ 6.4(b) and 6.9(a) for a transfer station on nonfederal lands within the park boundary when the Regional Director is able to determine that the operation of a transfer station would not degrade park natural or cultural resources. The NPS believes the temporary nature of transfer stations poses significantly fewer environmental concerns than permanent solid waste disposal sites and that the Regional Director's determination and other applicable State and federal laws will adequately protect park resources from undue impacts. The State of Alaska regulates transfer stations in the State, consistent with EPA requirements. The State of Alaska seeks to ensure transfer stations are appropriately located and managed in an environmentally responsible manner. Operators of other types of solid waste disposal sites within the boundaries of Wrangell-St. Elias National Park and Preserve would still be required to obtain a permit under § 6.4(b). For transfer stations on private lands within park boundaries, the NPS believes that the Regional Director's determination and State and EPA regulations sufficiently protect park resources.

Compliance With Other Laws

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or state, local, or tribal governments or communities. A qualitative cost/benefit analysis was conducted to examine specific costs and benefits associated with this proposed regulation. That analysis concludes that positive net benefits would be generated by each component of the proposed regulatory action, and hence by the regulatory action overall. Further, governmental processes in NPS-administered areas in Alaska would be improved, and market failures would be more effectively addressed. Therefore, it is anticipated that economic efficiency would be improved by this proposed regulatory action.

(2) This rule will not create a serious inconsistency or otherwise interfere with an action taken or planned by another agency. This is an agency-specific rule that will not interfere with other agencies or local government plans, policies, or controls. The proposals included with this rulemaking apply to areas managed by the National Park Service and do not conflict with other federal regulations. Several proposals are specifically intended to improve consistency between state and Federal areas. The review process used to develop the rulemaking proposals included consultation with the State of Alaska Department of Natural Resources to seek views of appropriate officials and to provide maximum conformity with state rules on adjacent lands as well as active participation where NPS is proposing variation from similar state regulations.

(3) This rule does not alter the budgetary effects of entitlements, grants, user fees, or loan programs, or the rights and obligations of their recipients. This rule will have no effects on entitlements, grants, user fees, or loan programs or the rights or obligations of their recipients. No grants or other forms of monetary supplements are involved.

(4) This rule does not raise novel legal or policy issues. This rule implements existing legislative enactments, judicial interpretations, and regulatory provisions. It is not a completely new proposal, but rather a continuation of the rulemaking process begun in 1980 to implement various provisions required by the Alaska National Interest Lands Conservation Act (ANILCA). In implementing ANILCA, NPS has sought to promulgate only those regulations necessary to interpret the law and to provide for the health and safety of the public and the environment. While the legal and policy issues associated with some parts of ANILCA may have been considered novel when adopted, they have long since lost their novelty. The continuing implementation of ANILCA has become routine and the process begun by this rulemaking is intended to increase participation and cooperation in the evolution of NPS regulations for Alaska.

Regulatory Flexibility Act

The Department of the Interior certifies that this document will not have a significant economic effect on a substantial number of small entities under the Regulatory Flexibility Act (5 U.S.C. 601 et seq.). The economic effects of this rule are local in nature and negligible in scope. The proposals in this rulemaking will either implement rules unrelated to business activity or make permanent various temporary and emergency rules under which area businesses have been operating. The rules included in this proposed rulemaking will have no effect or in some cases a salutary effect by eliminating year to year uncertainty for businesses and park visitors.

A qualitative Regulatory Flexibility threshold analysis was conducted to examine potential impacts to small entities. Based on the cost/benefit analysis referred to above, that threshold analysis concludes that, since no significant costs are anticipated for any component of the proposed action, significant economic impacts would not be imposed on a substantial number of small entities.

Small Business Regulatory Enforcement Fairness Act (SBREFA)

This rule is not a major rule under 5 U.S.C. 804(2), SBREFA. This rule:

a. Does not have an annual effect on the economy of $100 million or more. Expenses related to compliance with various provisions of this proposed rule are slight. No new user fees or charges are proposed. Any incidental costs of registering, checking-in, or participating in orientation programs would be small and often would not be additional to those already associated with visiting park areas.

b. Will not cause a major increase in costs or prices for consumers, individual industries, federal, state, or local government agencies, or geographic regions. The proposed provisions of this rulemaking will generally continue existing rules and use patterns for the park areas in Alaska.

c. Does not have significant adverse effects on competition, employment, investment, productivity, innovation, or the ability of U.S.-based enterprises to compete with foreign-based enterprises. The various provisions of this proposed rule do not apply differently to U.S.-based enterprises and foreign-based enterprises.

Unfunded Mandates Reform Act

This rulemaking addresses only actions that will be taken by the NPS. It will not require any State, local or tribal government to take any action that is not funded. In accordance with the Unfunded Mandates Reform Act (2 U.S.C. 1501 et seq.):

a. This rule will not “significantly or uniquely” affect small governments. A Small Government Agency Plan is not required. This rule is an agency specific rule and imposes no other requirements on small governments. Several of the proposed regulations are based on State of Alaska statutes. This consistency between the State of Alaska and the National Park Service is a benefit to visitors.

b. This rule will not produce a federal mandate of $100 million or greater in any year, i.e., it is not a “significant regulatory action” under the Unfunded Mandates Reform Act.

Takings (Executive Order 12630)

In accordance with Executive Order 12630, the rule does not have significant takings implications. A takings implication assessment is not required because no taking of personal property will occur as a result of this proposed rule.

Federalism (Executive Order 13132)

In accordance with Executive Order 13132, the rule does not have sufficient federalism implications to warrant the preparation of a Federalism Assessment. The proposed rule is limited in effect to federal lands and waters managed by the NPS and will not have a substantial direct effect on state and local government in Alaska. This proposed rule was initiated in part at the request of the state and has been drafted in closed consultation with the State of Alaska and, as such, promotes the principles of federalism.

Civil Justice Reform (Executive Order 12988)

In accordance with Executive Order 12988, the Office of the Solicitor has determined that this rule does not unduly burden the judicial system and meets the requirements of §§ 3(a) and 3(b)(2) of the order. This rule does not impose a new burden on the judicial system.

Paperwork Reduction Act

This regulation requires an information collection from 10 or more parties, which must be submitted for OMB approval under the Paperwork Reduction Act. However, these are not new collection requirements and, therefore, no additional request to OMB has been prepared. The information collection activities are necessary for the public to obtain benefits in the form of concession contracts and special use permits.

National Environmental Policy Act

We have analyzed this rule in accordance with the criteria of the National Environmental Policy Act and 516 DM. This rule does not constitute a major Federal action significantly affecting the quality of the human environment. The rule has generally been determined to be categorically excluded from further NEPA analysis in accordance with Departmental Guidelines in 516 DM 6 (49 FR 21438), and NPS procedures in Reference Manual-12.3.4.A(8), and, other than as noted below, there are no applicable exceptions to categorical exclusions (516 DM 2, Appendix 2; RM-12.3.5). A categorical exclusion does not apply to the proposed special regulation [13.65(b)(13)] designating off-road vehicle routes at Glacier Bay National Preserve, for which an environmental assessment is being prepared. The categorical exclusion and environmental assessment, when completed, will be available at the Alaska Regional Office, 240 5th Avenue, Anchorage, Alaska, 99501, 907-644-3533.

Government-to-Government Relationship With Tribes

In accordance with Executive Order 13175 “Consultation and Coordination with Indian Tribal Governments” (65 FR 67249); the President's memorandum of April 29, 1994, “Government-to-Government Relations with Native American Tribal Governments” (59 FR 22951); the Department of the Interior-Alaska Policy on Government-to-Government Relations with Alaska Native Tribes dated January 18, 2001; part 512 of the Departmental Manual, Chapter 2 “Departmental Responsibilities for Indian Trust Resources”; and various park consultation agreements with tribal governments, the potential effects on Federally-recognized Indian tribes have been evaluated, and it has been determined at this time that there are no potential effects.

While the consultation agreements noted above have not resulted in findings of potential effects, various proposals are of interest to local residents using these NPS areas and have been facilitated by the relationships established through government-to-government consultation. Finally, the initial determination of effect noted here is dynamic and subject to change throughout this rulemaking process due to the ongoing nature of government-to-government consultation for the NPS areas in Alaska.

Clarity of This Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading. (5) Is the description of the rule in the SUPPLEMENTARY INFORMATION section of the preamble helpful in understanding the proposed rule? What else could we do to make the rule easier to understand?

Send a copy of any comments that concern how we could make this rule easier to understand to: Office of Regulatory Affairs, Department of the Interior, Room 7229, 1849 C Street NW., Washington, DC 20240. You may also e-mail the comments to this address: Exsec@ios.doi.gov.

Drafting Information: The principal contributors to this proposed rule are: Jim Ireland, Kenai Fjords National Park ; Jay Liggett, Jane Hendrick, Andee Hansen and Paul Hunter, Alaska Regional Office, and Jerry Case, Regulations Program Manager, NPS, Washington, DC.

Public Availability of Comments

Before including your address, phone number, e-mail address, or other personal identifying information in your comment, you should be aware that your entire comment—including your personal identifying information—may be made publicly available at any time. While you can ask us in your comment to withhold your personal identifying information from public review, we cannot guarantee that we will be able to do so.

List of Subjects in 36 CFR Part 13

Alaska, National Parks, Reporting and recordkeeping requirements.

In consideration of the foregoing, the National Park Service proposes to amend 36 CFR part 13 as revised on November 30, 2006 (71 FR 69333) as set forth below:

PART 13—NATIONAL PARK SYSTEM UNITS IN ALASKA

1. The authority for part 13 continues to read as follows:

Authority: 16 U.S.C. 1, 3, 462(k), 3101 et. seq.; Subpart M also issued under 16 U.S.C. 1a-2(h), 20, 1361, 1531, 3197; Pub. L. 105-277, 112 Stat. 2681-259, October 21, 1998; Pub. L. 106-31, 113 Stat. 72, May 21, 1999; Sec. 13.1202 also issued under Sec. 1035, Pub. L. 104-333, 110 Stat. 4240.

§ 13.1 [Amended]

2. Amend § 13.1 as follows:

A. Remove the definition of “adequate and feasible access”; and

B. In the definition of “National Preserve,” remove the term “Alagnak National Wild and Scenic River” and add in its place the term “Alagnak Wild River.”

§ 13.440 [Amended]

3. In § 13.440, remove paragraph (b) and redesignate paragraph (c) as (b).

4. In § 13.485, revise paragraph (a) and remove the first sentence of paragraph (c)(1) and add two new sentences in its place to read as follows:

§ 13.485 Subsistence use of timber and plant material.

(a) Unless otherwise provided for in this section, the non-commercial cutting of standing timber by local rural residents for appropriate subsistence uses, such as firewood or house logs, may be permitted in park areas where subsistence uses are allowed as follows:

(1) For standing timber of diameter greater than 3 inches at ground height, the Superintendent may permit cutting in accordance with the specifications of a permit if such cutting is determined to be compatible with the purposes for which the park area was established; and

(2) For standing timber of diameter less than three inches at ground height, cutting is authorized unless restricted by the Superintendent.

* * * * *

(c) * * *

(1) Unless otherwise provided for in this part, the Superintendent, after notice and public hearing in the affected vicinity and other locations as appropriate, may temporarily close all or any portion of a park area to subsistence uses of a particular plant population. The Superintendent may make a closure under this paragraph only if necessary for reasons of public safety, administration, resource protection, protection of historic or scientific values, conservation of endangered or threatened species, or the purposes for which the park area was established, or to ensure the continued viability of the plant population.

* * * * *

5. Add a new Subpart H (consisting of § 13.550) to read as follows:

Subpart H—Special Regulations—Alagnak Wild River

§ 13.550 Wildlife distance conditions.

(a) Approaching a bear or any large mammal within 50 yards is prohibited.

(b) Continuing to occupy a position within 50 yards of a bear that is using a concentrated food source, including, but not limited to, animal carcasses, spawning salmon, and other feeding areas is prohibited.

(c) Continuing to engage in fishing or photography activities within 50 yards of a bear is prohibited.

(d) The prohibitions in this section do not apply to persons—

(1) Engaged in a legal hunt;

(2) On a designated bear viewing structure;

(3) In compliance with a written protocol approved by the Superintendent; or

(4) Who are otherwise directed by a park employee.

6. Amend § 13.604 by redesignating paragraph (c) as paragraph (d) and adding new paragraph (c) to read as follows:

§ 13.604 Wildlife distance conditions.

* * * * *

(c) Continuing to engage in fishing or photography activities within 50 yards of a bear is prohibited.

* * * * *

7. Add new §§ 13.918 and 13.920 in subpart L to read as follows:

§ 13.918 Sable Pass Wildlife Viewing Area.

(a) Entry into the Sable Pass Wildlife Viewing Area is prohibited from May 1 to September 30 unless authorized by the Superintendent.

(b) The Sable Pass Wildlife Viewing Area means the area within one mile of the shoulder of the Park Road between Mile 38.2 and Mile 42.8, excluding the Tattler Creek drainage. A map showing the specific boundaries of the closure is available for inspection at the park visitor center.

§ 13.920 Wildlife distance conditions.

(a) Bears. The following are prohibited:

(1) Approaching within 300 yards of a bear; or

(2) Engaging in photography within 300 yards of a bear.

(b) Other wildlife. The following are prohibited:

(1) Approaching within 25 yards of a moose, caribou, Dall sheep, wolf, an active raptor nest, or occupied den site; or

(2) Engaging in photography within 25 yards of a moose, caribou, Dall sheep, wolf, an active raptor nest, or occupied den site.

(c) The prohibitions in this section do not apply to persons—

(1) Within a motor vehicle or a hard sided building;

(2) Within 2 yards of a motor vehicle or entrance to a hard sided building that are 25 yards or more from a bear;

(3) Engaged in legal hunting or trapping activities;

(4) In compliance with a written protocol approved by the Superintendent;

(5) Who are otherwise directed by a park employee; or

(6) In accordance with a permit from the Superintendent.

8. Add § 13.1008 in subpart M to read as follows:

§ 13.1008 Solid waste disposal.

(a) A solid waste disposal site may accept non-National Park Service solid waste generated within the boundaries of the park area.

(b) A solid waste disposal site may be located within 1 mile of facilities as defined by this part so long as it does not degrade natural or cultural resources of the park area.

9. Add § 13.1106 to read as follows:

§ 13.1106 Pets.

Pets are prohibited except—

(a) On the Bartlett Cove Public Use Dock;

(b) On the beach between the Bartlett Cove Public Use Dock and the National Park Service Administrative Dock;

(c) Within 100 feet of Bartlett Cove Developed Area park roads or parking areas unless otherwise posted;

(d) On a vessel on the water; or

(e) Within Glacier Bay National Preserve.

10. Add § 13.1108 to read as follows:

§ 13.1108 Alsek Corridor.

(a) A permit is required to enter the Alsek Corridor. A map showing the boundaries of the Alsek Corridor is available from the park visitor center. Failure to obtain a permit is prohibited.

(b) Group size is limited to 15 persons except that specific concession permit holders are limited to 25 persons.

(c) Camping is prohibited for more than one night each at Walker Glacier, Alsek Spit and Gateway Knob plus one additional night at any one of these three locations. Camping is prohibited for more than four nights total among the three locations.

(d) Except at Dry Bay, campfires may be lighted and maintained inside a fire pan within ½ mile of the Alsek River.

(e) Disposal of solid human body waste within the Alsek Corridor is prohibited. This waste must be carried to the NPS designated facility.

11. Add § 13.1109 to read as follows:

§ 13.1109 Off-road vehicle use in Dry Bay.

The use of off-road vehicles is authorized only on designated routes and areas in Dry Bay. The use of off-road vehicles in all other areas in Dry Bay is prohibited. A map of designated routes and areas is available at park headquarters.

12. Add § 13.1118 to read as follows:

§ 13.1118 Solid waste disposal.

(a) A solid waste disposal site may accept non-National Park Service solid waste generated within the boundaries of the park area.

(b) A solid waste disposal site may be located within one mile of facilities as defined by this part so long as it does not degrade natural or cultural resources of the park area.

13. Amend § 13.1206 by redesignating paragraph (c) as paragraph (d) and adding a new paragraph (c) to read as follows:

§ 13.1206 Wildlife distance conditions.

* * * * *

(c) Continuing to engage in fishing or photography activities within 50 yards of a bear is prohibited.

* * * * *

14. Add § 13.1210 to read as follows:

§ 13.1210 Firearms.

The superintendent may designate areas or routes within Katmai National Park where a firearm may be carried.

15. Revise § 13.1304 to read as follows:

§ 13.1304 Exit Glacier Developed Area.

(a) Location of Exit Glacier Developed Area. A map showing the boundaries of the EGDA is available at the park visitor center. For the purposes of this subpart, the Exit Glacier Developed Area (EGDA) means:

(1) From the park boundary to Exit Glacier Campground Entrance Road, all park areas within 350 meters of the centerline of the Exit Glacier Road;

(2) From Exit Glacier Campground Entrance Road to the end of the main paved trail, all park areas within 500 meters of any paved surface; or

(3) All park areas within 300 meters of the terminus of Exit Glacier.

(b) Camping. Within the EGDA, camping is prohibited except in designated sites within the Exit Glacier Campground or as authorized by the Superintendent.

(c) Food. Cooking, consuming, storing or preparing food in the Exit Glacier Campground is prohibited except in designated areas.

(d) Bicycles. Within the EGDA, the use of a bicycle is prohibited except on the Exit Glacier road and parking areas.

(e) Commercial transport of passengers by motor vehicles. Commercial transport of passengers by motor vehicles on Exit Glacier Road is allowed without a written permit. However, if required to protect public health and safety or park resources, or to provide for the equitable use of park facilities, the Superintendent may establish a permit requirement with appropriate terms and conditions for the transport of passengers. Failure to comply with permit terms and conditions is prohibited.

(f) Snowmachines. The use of snowmachines is prohibited within the EGDA, except—

(1) On Exit Glacier Road;

(2) In parking areas;

(3) On a designated route through the Exit Glacier campground to Exit Creek;

(4) Within Exit Creek; and

(5) For NPS administrative activities.

(g) Exit Glacier Developed Area closures and restrictions. The Superintendent may prohibit or otherwise restrict activities in the EGDA to protect public health, safety, or park resources, or to provide for the equitable and orderly use of park facilities. Information on closures and restrictions will be available at the park visitor information center. Violating closures or restrictions is prohibited.

(h) Climbing and walking on Exit Glacier. Except for areas designated by the Superintendent, climbing or walking on, in, or under Exit Glacier is prohibited within ½ mile of the glacial terminus from May 1 through October 31, and during other periods as determined by the Superintendent. Restrictions and exceptions will be available for inspection at the park visitor center, on bulletin boards or signs, or by other appropriate means.

(i) Ice fall hazard zones. Entering an ice fall hazard zone is prohibited. These zones will be designated with signs, fences, rope barriers, or similar devices.

16. Add § 13.1308 to read as follows:

§ 13.1308 Harding Icefield Trail.

The Harding Icefield Trail from the junction with the main paved trail near Exit Glacier to the emergency hut near the terminus is closed to—

(a) Camping within ⅛ mile of the trail; and

(b) Bicycles or other wheeled devices.

17. Add § 13.1310 to read as follows:

§ 13.1310 Pets.

(a) Pets are prohibited—

(1) In the Exit Glacier Developed Area except in the parking lot, on the Exit Glacier road, or other areas designated by the superintendent;

(2) Along the coast within the area extending from the mean high tide line to one quarter mile inland after May 30 and before November 1.

(b) The restrictions in this section do not apply to dogs when sufficient snow exists for skiing or dog sled use and the dogs are restrained as part of a sled dog team or for the purposes of skijoring.

18. Add § 13.1604 to read as follows:

§ 13.1604 Solid waste disposal.

(a) A solid waste disposal site may accept non-National Park Service solid waste generated within the boundaries of the park area.

(b) A solid waste disposal site may be located within one mile of facilities as defined by this part so long as it does not degrade natural or cultural resources of the park area.

(c) A transfer station located wholly on nonfederal lands within Lake Clark National Park and Preserve may be operated without a permit from the National Park Service as required by §§ 6.4(b) and 6.9(a) so long as the solid waste is generated within the boundaries of the park area and the Regional Director determines that the operation will not degrade any of the natural or cultural resources of the park area. Such a transfer station must comply with the remaining provisions of part 6 of this chapter. A transfer station means a public use facility for the deposit and temporary storage of solid waste, excluding a facility for the storage of a regulated hazardous waste.

19. Add § 13.1912 to read as follows:

§ 13.1912 Solid waste disposal.

(a) A solid waste disposal site may accept non-National Park Service solid waste generated within the boundaries of the park area.

(b) A solid waste disposal site may be located within one mile of facilities as defined by this part so long as it does not degrade natural or cultural resources of the park area.

(c) A transfer station located wholly on nonfederal lands within Wrangell-St. Elias National Park and Preserve may be operated without the permit required by §§ 6.4(b) and 6.9(a) only if:

(1) The solid waste is generated within the boundaries of the park area;

(2) The Regional Director determines that the operation will not degrade any of the natural or cultural resources of the park area; and

(3) The transfer station complies with the provisions of part 6 of this chapter.

(d) For purposes of this section, a transfer station means a public use facility for the deposit and temporary storage of solid waste, excluding a facility for the storage of a regulated hazardous waste.

Dated: November 21, 2006.
David M. Verhey,
Acting Assistant Secretary, Fish and Wildlife and Parks.

[FR Doc. E6-22100 Filed 12-26-06; 8:45 am]

BILLING CODE 4310-EF-P